OVERSEAS PRIVATE INVESTMENT CORPORATION

September 8, 2005 Public Hearing

OPIC's Sunshine Act notice of its Public Hearing in Conjunction with each Board meeting was published in the Federal Register (Volume 70, Number 158, Page 48446) on August 17, 2005. No requests were received to provide testimony or submit written statements for the record; therefore, OPIC's public hearing in conjunction with OPIC's September 15, 2005 Board of Directors meeting scheduled for 2 p.m. on September 8, 2005 has been cancelled.

Contact Person For Information: Information on the hearing cancellation may be obtained from Connie M. Downs at (202) 336-8438, via facsimile at (202) 218-0136, or via e-mail at cdown@opic.gov.

Dated: September 1, 2005.
Connie M. Downs,
OPIC Corporate Secretary.

[FR Doc. 05-17723 Filed 9-1-05; 2:13 pm]

BILLING CODE 3210-01-M